DEPARTMENT OF ENERGY

Federal Energy Regulatory Commission

Combined Notice of Filings #2

Take notice that the Commission received the following qualifying facility filings:

Docket Numbers: QF85-324-007.

Applicants: Mt. Poso Cogeneration Company, LLC.

Description: Notice of Certification of Qualifying Facility Status for a Small Power Production or Cogeneration Facility of Mt. Poso Cogeneration Company, LLC.

Filed Date: 02/15/2011.

Accession Number: 20110215-5133.

Comment Date: None Applicable.

Docket Numbers: QF10-485-001.

Applicants: Alabama River Cellulose LLC.

Description: Notice of Self Re-certification Filed on Behalf of Alabama River Cellulose LLC.

Filed Date: 08/12/2010.

Accession Number: 20100812-5051.

Comment Date: None Applicable.

Docket Numbers: QF08-528-001.

Applicants: Alpine Energy, LLC.

Description: Notice of Certification of Qualifying Facility Status for a Small Power Production or Cogeneration Facility for Alpine Energy, LLC, Alpine Landfill Gas Project.

Filed Date: 06/17/2010.

Accession Number: 20100617-5009.

Comment Date: None Applicable.

Docket Numbers: QF10-533-000.

Applicants: Rain CII Carbon LLC.

Description: Notice of Certification of Qualifying Facility Status for a Small Power Production Facility of Rain CII Carbon LLC.

Filed Date: 06/22/2010.

Accession Number: 20100622-4007.

Comment Date: None Applicable.

Docket Numbers: QF10-559-000.

Applicants: PowerSecure, Inc.

Description: Self-Certification of PowerSecure Inc. at Washington, NC Walmart.

Filed Date: 07/02/2010.

Accession Number: 20100702-5029.

Comment Date: None Applicable.

Docket Numbers: QF10-560-000.

Applicants: PowerSecure, Inc.

Description: Self-Certification of PowerSecure Inc. at Laurinburg, NC Walmart.

Filed Date: 07/02/2010.

Accession Number: 20100702-5032.

Comment Date: None Applicable.

Docket Numbers: QF10-561-000.

Applicants: PowerSecure, Inc.

Description: Self-Certification of PowerSecure Inc. at Wilson, NC Walmart.

Filed Date: 07/02/2010.

Accession Number: 20100702-5035.

Comment Date: None Applicable.

Docket Numbers: QF10-562-000.

Applicants: PowerSecure, Inc.

Description: Self-Certification of PowerSecure Inc. at Southport, NC Walmart.

Filed Date: 07/02/2010.

Accession Number: 20100702-5035.

Comment Date: None Applicable.

Docket Numbers: QF10-563-000.

Applicants: PowerSecure, Inc.

Description: Self-Certification of PowerSecure Inc. at Tarboro, NC Walmart.

Filed Date: 07/02/2010.

Accession Number: 20100702-5055.

Comment Date: None Applicable.

Docket Numbers: QF10-568-000.

Applicants: B'Nai B'Rith Housing New England—Covenant House

Description: Form 556 of B'Nai B'Rith Housing New England—Covenant House.

Filed Date: 07/08/10; 08/17/2010.

Accession Number: 20100708-5031; 20100817-5037.

Comment Date: None Applicable.

Docket Numbers: QF10-569-000.

Applicants: Cambridge Residence Inn.

Description: Form 556 of Cambridge Residence Inn.

Filed Date: 07/08/10; 08/17/2010.

Accession Number: 20100708-5032; 20100817-5036.

Comment Date: None Applicable.

Docket Numbers: QF10-584-000.

Applicants: Town of Smithfield.

Description: Self-Certification of Town of Smithfield, NC.

Filed Date: 07/21/2010.

Accession Number: 20100721-5037.

Comment Date: None Applicable.

Docket Numbers: QF10-614-000.

Applicants: Sysco Raleigh, LLC.

Description: Form 556 of Sysco Raleigh, LLC.

Filed Date: 09/02/2010.

Accession Number: 20100902-5126.

Comment Date: None Applicable.

Docket Numbers: QF10-627-000.

Applicants: Kennecott Utah Cooper LLC.

Description: Form 556 of Kennecott Utah Copper LLC QF Self Certification.

Filed Date: 08/17/2010.

Accession Number: 20100817-5059.

Comment Date: None Applicable.

Docket Numbers: QF10-630-000.

Applicants: Heritage Hospital.

Description: Amending initial self-certification.

Filed Date: 10/27/2010.

Accession Number: 20101027-5124.

Comment Date: None Applicable.

Docket Numbers: QF10-642-000.

Applicants: Marlin Daufeldt.

Description: Form 556 of Marlin Daufeldt, LLC.

Filed Date: 08/31/2010.

Accession Number: 20100831-5234.

Comment Date: None Applicable.

Docket Numbers: QF10-667-000.

Applicants: Town of Tarboro.

Description: Notice of Self-Certification of Qualifying Facility Status for a Small Power Production Facility by PowerSecure Inc. for Town of Tarboro, NC.

Filed Date: 09/15/2010.

Accession Number: 20100915-5209.

Comment Date: None Applicable.

Docket Numbers: QF11-27-000.

Applicants: California Dairies, Inc.

Description: Form 556 of California Dairies, Inc.

Filed Date: 11/02/2010.

Accession Number: 20101102-5157.

Comment Date: None Applicable.

Docket Numbers: QF11-28-000.

Applicants: California Dairies, Inc.

Description: Form 556 of California Dairies, Inc.

Filed Date: 11/02/2010.

Accession Number: 20101102-5158.

Comment Date: None Applicable.

Docket Numbers: QF11-29-000.

Applicants: California Dairies, Inc.

Description: Form 556 of California Dairies, Inc.

Filed Date: 11/04/2010.

Accession Number: 20101104-5067.

Comment Date: None Applicable.

Docket Numbers: QF11-87-000.

Applicants: NRG Energy Center Princeton LLC.

Description: Report 556 of NRG Energy Center Princeton LLC.

Filed Date: 12/20/2010.

Accession Number: 20101220-5120.

Comment Date: None Applicable.

Docket Numbers: QF11-104-000.

Applicants: Lowe's Food Stores, Inc.

Description: Form 556 of Lowe's Food Stores, Inc.

Filed Date: 01/11/2011.

Accession Number: 20110111-5271.

Comment Date: None Applicable.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 24, 2011.
Nathaniel J. Davis, Sr.,
Deputy Secretary.

[FR Doc. 2011-5022 Filed 3-4-11; 8:45 am]

BILLING CODE 6717-01-P